DEPARTMENT OF TRANSPORTATION

Federal Motor Carrier Safety Administration

[Docket No. FMCSA-2008-0078]

Commercial Driver's license (CDL) Standards; Rotel North American Tours, LLC; Application for Renewal of Exemption; Request for Comments

AGENCY: Federal Motor Carrier Safety Administration (FMCSA), DOT.

ACTION: Notice of application for renewal of exemption; request for comments.

SUMMARY: FMCSA announces that Rotel North American Tours, LLC (Rotel), has applied for renewal of its current exemption permitting 22 drivers employed by Rotel and possessing German CDLs, to operate commercial motor vehicles in the United States without a CDL issued by one of the States. Of the 22 named drivers, five drivers are new and will be replacing five drivers who are no longer employed by Rotel. Like the other 17 Rotel drivers operating under the current exemption, the five new drivers are non-residents of the U.S. and holders of German CDLs. Rotel asks that the current exemption, due to expire July 30, 2012, be renewed subject to the terms and conditions of the current exemption for an additional period of 2 years. The five new Rotel drivers would be subject to all the terms and conditions of the renewed exemption. FMCSA requests public comments on Rotel's application.

DATES: If approved, this exemption would be effective from July 31, 2012 through July 30, 2014. Comments must be received on or before March 1, 2012.

ADDRESSES: You may submit comments identified by Federal Docket Management System Number FMCSA-2008-0078 by any of the following methods:

• Federal eRulemaking Portal: Go to www.regulations.gov. In the ENTER KEYWORD OR ID box enter FMCSA-2008-0078 and click on the tab labeled SEARCH. On the ensuing page, click on any tab labeled SUBMIT A COMMENT on the extreme right of the page and a page should open that is titled “Submit a Comment.” You may identify yourself under section 1, ENTER INFORMATION, or you may skip section 1 and remain anonymous. You enter your comments in section 2, TYPE COMMENT & UPLOAD FILE. When you are ready to submit your comments, click on the tab labeled SUBMIT. Your comment is then submitted to the docket; and you will receive a tracking number.

• Fax: 1 (202) 493-2251.

• Mail: Docket Management Facility: U.S. Department of Transportation, 1200 New Jersey Avenue SE, West Building, Ground Floor, Room W12-140, Washington, DC 20590-0001.

• Hand Delivery: West Building, Ground Floor, Room W12-140, 1200 New Jersey Avenue SE, Washington, DC, between 9 a.m. and 5 p.m. e.t., Monday through Friday, except Federal holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov at any time, and in the ENTER KEYWORD OR ID box enter FMCSA-2008-0078 and click on the tab labeled SEARCH.

Privacy Act: Anyone is able to search the electronic form of all comments received into any of our dockets by the name of the individual submitting the comment (or signing the comment, if submitted on behalf of an association, business, labor union, etc.). You may review the U.S. Department of Transportation's online privacy policy at www.dot.gov/privacy or the complete Privacy Act Statement in the Federal Register published on December 29, 2010 (75 FR 82133).

Public Participation: The www.regulations.gov Web site is generally available 24 hours each day, 365 days each year. You can obtain electronic submission and retrieval help and guidelines under the “help” section of the www.regulations.gov Web site. If you want us to notify you that we received your comments, please include a self-addressed, stamped envelope or postcard or print the acknowledgement page that appears after submitting comments online.

FOR FURTHER INFORMATION CONTACT: Ms. Pearlie Robinson, FMCSA Driver and Carrier Operations Division, Office of Bus and Truck Standards and Operations, Telephone: (202) 366-4325. Email: MCPSD@dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption application in the Federal Register (49 CFR 381.315(a)). The Agency must provide the public an opportunity to inspect the information relevant to the application, including any safety analyses that have been conducted. The Agency must also provide an opportunity for public comment on the application.

The Agency reviews the safety analyses and the public comments, and determines whether granting the exemption would likely achieve a level of safety equivalent to, or greater than, the level that would be achieved by complying with the current regulation (49 CFR 381.305). The decision of the Agency must be published in the Federal Register (49 CFR 381.315(b)) with the reason for denying or, in the alternative, the specific person or class of persons receiving the exemption, and the regulatory provision or provisions from which the exemption is granted. The notice must also specify the effective period of the exemption (up to 2 years), and explain the terms and conditions of the exemption. The exemption may be renewed (49 CFR 381.300(b)).

The FMCSA has granted comparable exemptions for Rotel drivers in the past, beginning in 2008. The most recent Agency notice of final disposition was published on August 2, 2010, granting exemption for the same purpose to 22 Rotel drivers with German CDLs (75 FR 45200). Further information about past Rotel exemption requests and approvals is contained in the docket FMCSA-2008-0078 at www.regulations.gov.

Rotel's Request for Renewal

Rotel is a German bus company that has offered German visitors tours of North America by bus for over 35 years. Rotel imports its own buses, which are licensed in the United States and meet all U.S. requirements. German drivers are preferred because they speak the language fluently and perform a variety of services for the visitors in addition to driving.

By letter dated October 21, 2011, Rotel applied for renewal of its current exemption from the requirement that operators of CMVs obtain a CDL from one of the States. The letter is available in the docket for this notice. Rotel asks that the 17 individuals who are currently exempt continue to be exempt from the CDL licensing requirement of 49 CFR 383.23 for an additional 2 years. Rotel asks that five new drivers replacing five of the Rotel drivers who are no longer employed be exempted from the CDL requirements and be subject to the terms and conditions of the renewed exemption. Each of these individuals is a non-resident of the U.S., a holder of a valid German CDL, and an experienced CMV operator. The drivers are, as follows:

Josef Dangl, Reinfried Dangl, Michael Eiler, Klaus Endres, Helmut Erbersdobler, Reinhard Freudenstein, Alexander Friedl, Peter Hess, Gerhard Kinateder, Hermann Lichtenauer, Karl Lippl, Horst Mahl, Franz Manzinger, Fabian Maurer, Rudolf Ramsl, Paul Schlögl, Karl-Heinz Schmitz, Josef Stockinger, Josef Vogl, Klaus Weber, Markus Wölfl, Norbert Zechmesiter

Rotel believes these drivers possess sufficient knowledge, skills, and experience to ensure a level of safety that is equivalent to, or greater than, the level of safety that would be obtained by complying with the requirement for a U.S. CDL. If the Agency determines that this application should be granted, the Rotel drivers would be subject to the terms and conditions of the current Rotel exemption. In accordance with 49 U.S.C. 31315(b)(4) and 31136(e), FMCSA requests public comments on Rotel's request for its exemption to allow the 22 Rotel CDL drivers named above to be exempt from 49 CFR 383.23 from July 31, 2012, through July 30, 2014.

Method To Ensure an Equivalent or Greater Level of Safety

Drivers applying for a German-issued CDL must undergo a training program and pass knowledge and skills tests. FMCSA has previously determined that the process for obtaining a German-issued CDL adequately assesses the driver's ability to safely operate CMVs in the U.S.. Therefore, the process for obtaining a German-issued CDL is considered to be comparable to, or as effective as, the requirements of 49 CFR part 383 for obtaining a CDL in the United States.

As with any application for any exemption, FMCSA will review all available records for any possible information that would be relevant to the approval of the exemption.

Request for Comments

In accordance with 49 U.S.C. 31315(b)(4) and 31136(e), FMCSA requests public comments on the renewal of Rotel's exemption from the requirements of 49 CFR 383.23. The FMCSA will review all comments received and determine whether the renewal of the exemption is consistent with the requirements of 49 U.S.C. 31315 and 31136(e). Comments received after the comment closing date will be filed in the public docket and will be considered to the extent practicable.

Issued on: January 20, 2012.
Larry W. Minor,
Associate Administrator for Policy.

[FR Doc. 2012-1983 Filed 1-30-12; 8:45 am]

BILLING CODE 4910-EX-P